ENVIRONMENTAL PROTECTION AGENCY

[FRL-8933-8]

Agency Information Collection Activities OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Rick Westlund, (202) 566-1682, or e-mail at westlund.rick@epa.gov and please refer to the appropriate EPA Information Collection Request (ICR) Number.

SUPPLEMENTARY INFORMATION:

OMB Responses to Agency Clearance Requests

OMB Approvals

EPA ICR Number 2173.02; Reporting Requirements under EPA's Green Power Partnership and Combined Heat and Power Partnership (Renewal); was approved 06/10/2009; OMB Number 2060-0578; expires 06/30/2012.

EPA ICR Number 1773.09; NESHAP for Hazardous Waste Combustors (Renewal); in 40 CFR part 63, subpart EEE; was approved 06/12/2009; OMB Number 2050-0171; expires 06/30/2012.

EPA ICR Number 1871.05; NESHAP for Source Categories: Generic Maximum Achievable Control Technology Standards (Renewal); in 40 CFR part 63, subpart YY; was approved 06/30/2009; OMB Number 2060-0420; expires 06/30/2012.

EPA ICR Number 0111.12; NESHAP for Asbestos (Renewal); in 40 CFR part 61, subpart M; was approved 06/30/2009; OMB Number 2060-0101; expires 06/30/2012.

EPA ICR Number 1964.04; NESHAP for Wet-formed Fiberglass Mat Production (Renewal); in 40 CFR part 63, subpart HHHH; was approved 06/30/2009; OMB Number 2060-0496; expires 06/30/2012.

EPA ICR Number 0262.12; RCRA Hazardous Waste Permit Application and Modification, Part A (Renewal); in 40 CFR 270.11, 270.13, 270.70 and 270.72; was approved 07/02/2009; OMB Number 2050-0034; expires 07/31/2012.

EPA ICR Number 1775.05; Hazardous Remediation Waste Management Requirements (HWIR-Media) (Renewal); in 40 CFR part 264, 271.21, and 270; was approved 07/02/2009; OMB Number 2050-0161; expires 07/31/2012.

EPA ICR Number 1100.13; NESHAP for Radionuclides (Renewal); in 40 CFR part 61, subparts B, K, R and W; was approved 07/02/2009; OMB Number 2060-0191; expires 07/31/2012.

EPA ICR Number 1395.07; Emergency Planning and Release Notification Requirements under Emergency Planning and Community Right-to-Know Act Sections 302, 303, and 304 (Renewal); in 40 CFR part 355; was approved 07/04/2009; OMB Number 2050-0092; expires 07/31/2012.

EPA ICR Number 1361.12; Expanding the Comparable Fuels Exclusion under RCRA (Final Rule); in 40 CFR 261.38; was approved 07/06/2009; OMB Number 2050-0073; expires 07/31/2012.

EPA ICR Number 2040.04; NESHAP for Refractory Products Manufacturing (Renewal); in 40 CFR part 63, subpart SSSSS; was approved 07/07/2009; OMB Number 2060-0515; expires 07/31/2012.

EPA ICR Number 2285.01; Schools Chemical Cleanout Campaign (SC3); was approved 07/07/2009; OMB Number 2050-0203; expires 07/31/2012.

EPA ICR Number 2251.02; Control of Emissions from Nonroad Spark-Ignition Engines and Equipment (Final Rule); in 40 CFR part 1065; was approved 07/08/2009; OMB Number 2060-0603; expires 07/31/2012.

EPA ICR Number 1722.06; Emission Certification and Compliance Requirements for Marine Spark-ignition Engines (Final Rule); in 40 CFR 91.107, 91.105, 91.121, 91.122, 91.124, 91.208, 91.209, 91.504, 91.509, 91.804, and 91.805; was approved 07/08/2009; OMB Number 2060-0321; expires 07/31/2012.

EPA ICR Number 1684.13; Emissions Certification, Compliance and In-use Testing Requirements for On-highway Heavy Duty Engines and Vehicles Equipped with On-Board Diagnostics (Amendment) (Final Rule); in 40 CFR part 1042, subparts C, D, G and H; was approved 07/08/2009; OMB Number 2060-0287; expires 07/31/2012.

EPA ICR Number 1745.06; Criteria for Classification of Solid Waste Disposal Facilities and Practices (Renewal); in 40 CFR part 257, subpart B; was approved 07/10/2009; OMB Number 2050-0154; expires 07/31/2012.

EPA ICR Number 2027.04; NESHAP for Flexible Polyurethane Foam Fabrication (Renewal); in 40 CFR part 63, subpart MMMMM; was approved 07/10/2009; OMB Number 2060-0516; expires 07/31/2012.

EPA ICR Number 2056.03; NESHAP for Miscellaneous Metal Parts and Products (Renewal); in 40 CFR part 63, subpart MMMM; was approved 07/10/2009; OMB Number 2060-0486; expires 07/31/2012.

EPA ICR Number 1656.13; Risk Management Program Requirements and Petitions to Modify the List of Regulated Substances under Section 112(r) of the Clean Air Act (Renewal); in 40 CFR part 68; was approved 07/10/2009; OMB Number 2050-0144; expires 07/31/2012.

EPA ICR Number 2317.01; Generator Standards Applicable to Laboratories Owned by Eligible Academic Entities (Final Rule); in 40 CFR part 262, subpart K; was approved 07/10/2009; OMB Number 2050-0204; expires 07/31/2012.

OMB Comments Filed

EPA ICR Number 2355.01; Restructuring of Stationary Source Audit Program (Proposed Rule); OMB filed comment on 06/30/2009.

EPA ICR Number 1975.06; NESHAP for Stationary Reciprocating Internal Combustion Engines (40 CFR part 63, subpart ZZZZ) (Proposed Rule); OMB filed comment on 07/04/2009.

EPA ICR Number 2348.01; NESHAP for Paints and Allied Products Manufacturing (40 CFR part 63, subpart CCCCCCC) (Proposed Rule); OMB filed comment on 07/07/2009.

EPA ICR Number 2332.01; NESHAP for Aluminum, Copper, and Other Nonferrous Foundries (Proposed Rule); OMB filed comment on 07/10/2009.

Dated: July 16, 2009.
John Moses,
Director, Collection Strategies Division.

[FR Doc. E9-17397 Filed 7-21-09; 8:45 am]

BILLING CODE 6560-50-P